DEPARTMENT OF DEFENSE

Department of the Army

[Docket ID: USA-2013-0040]

Proposed Collection; Comment Request

AGENCY: Office of the Administrative Assistant to the Secretary of the Army (OAA-RPA), DoD.

ACTION: Notice.

SUMMARY: In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 21, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the U.S. Army ROTC Cadet Command, ATTN: ATCC-OP-I-S (Iantha Spalding), 55 Patch Road, Building 56, Fort Monroe, Virginia 23651-5238, or call the Department of the Army Reports Clearance Officer at (703) 428-6440.

SUPPLEMENTARY INFORMATION:

Title; Associated Form; and OMB Number: U.S. Army ROTC 4-Year College Scholarship Application (For High School Students); CC Form 114-R; OMB Control Number 0702-0073.

Needs and Uses: The Army ROTC Program produces approximately 80 percent of the newly commissioned officers for the U.S. Army. The Army ROTC scholarship is an incentive to attract men and women to pursue educational degrees in the academic disciplines required by the Army. The information is collected annually.

Affected Public: Individuals or households.

Annual Burden Hours: 20,351.

Number of Respondents: 13,508.

Responses per Respondent: 1.

Average Burden per Response: 45 minutes.

Frequency: Annually.

The applications are available to high school students. Once the applications for U.S. Army ROTC 4-Year College Scholarship Program are completed, they are submitted to Headquarters, Cadet Command for review, screening, and selection of scholarship recipients. The application and information provides the basis for the scholarship award.

Dated: November 15, 2013.
Aaron Siegel,
Alternate OSD Federal Register Liaison Officer, Department of Defense.

[FR Doc. 2013-27888 Filed 11-20-13; 8:45 am]

BILLING CODE 5001-06-P